DEPARTMENT OF AGRICULTURE

Grain Inspection, Packers and Stockyards Administration

[00-02-S]

Designation for the Minnesota, Virginia, Frankfort (IN), and Indianapolis (IN) Areas

AGENCY: Grain Inspection, Packers and Stockyards Administration (GIPSA).

ACTION: Notice.

SUMMARY: GIPSA announces designation of the following organizations to provide official services under the United States Grain Standards Act, as amended (Act):

• Minnesota Department of Agriculture (Minnesota);

• Virginia Department of Agriculture and Consumer Services (Virginia);

• Frankfort Grain Inspection, Inc. (Frankfort); and

• Indianapolis Grain Inspection and Weighing Service, Inc. (Indianapolis).

EFFECTIVE DATES: January 1, 2001 for Minnesota; February 1, 2001 for Virginia; and March 1, 2001 for Frankfort and Indianapolis.

ADDRESSES: USDA, GIPSA, Janet M. Hart, Chief, Review Branch, Compliance Division, STOP 3604, Room 1647-S, 1400 Independence Avenue, SW., Washington, DC 20250-3604.

FOR FURTHER INFORMATION CONTACT: Janet M. Hart at 202-720-8525, e-mail janhart@gipsadc.usda.gov.

SUPPLEMENTARY INFORMATION: This action has been reviewed and determined not to be a rule or regulation as defined in Executive Order 12866 and Departmental Regulation 1512-1; therefore, the Executive Order and Departmental Regulation do not apply to this action.

In the March 1, 2000, Federal Register (65 FR 11036), GIPSA asked persons interested in providing official services in the geographic areas assigned to Minnesota to submit an application for designation. Applications were due by March 30, 2000. In the June 1, 2000, Federal Register (65 FR 35044), GIPSA asked persons interested in providing official services in the geographic areas assigned to Virginia, Frankfort, and Indianapolis to submit an application for designation. Applications were due by June 30, 2000.

Each was the sole applicant for designation to provide official services in the entire area currently assigned to them, so GIPSA did not ask for comments on the applicants.

GIPSA evaluated all available information regarding the designation criteria in section 7(f)(1)(A) of the Act and, according to section 7(f)(1)(B), determined that each official agency is able to provide official services in the geographic areas, specified in the March 1, 2000 and June 1, 2000 Federal Registers, for which they applied. Interested persons may obtain official services by calling the telephone numbers listed below.

Official agency | Designation start | Designation end | Telephone
Minnesota | 01/01/2001 | 09/30/01 | 612-341-7190
Virginia | 02/01/2001 | 12/31/2003 | 757-494-2464
Frankfort | 03/01/2000 | 12/31/2003 | 765-258-3624
Indianapolis | 03/01/2000 | 12/31/2003 | 317-899-2337

Authority: Pub. L. 94-582, 90 Stat. 2867, as amended (7 U.S.C. 71 et seq.).

Dated: November 16, 2000.
Neil E. Porter,
Director, Compliance Division.

[FR Doc. 00-30498 Filed 11-30-00; 8:45 am]

BILLING CODE 3410-EN-P